DEPARTMENT OF TRANSPORTATION

Federal Highway Administration

Environmental Impact Statement: St. John the Baptist and St. James Parishes, LA

AGENCY: Federal Highway Administration (FHWA), DOT.

ACTION: Notice of intent.

SUMMARY: The FHWA is issuing this notice to advise the public that a Environmental Impact Statement (EIS) will be prepared for the proposed enhanced commercial interstate access in St. John the Baptist Parish, Louisiana.

FOR FURTHER INFORMATION CONTACT: Mr. Carl M. Highsmith, Project Delivery Team Leader, Federal Highway Administration, 5304 Flanders Drive, Suite A, Baton Rouge, Louisiana 70808, Telephone: (225) 757-7600; Ms. Noel Ardoin, Environmental Administrator, Louisiana Department of Transportation and Development, 1201 Capitol Access Road (P.O. Box 94245), Baton Rouge, LA 70802, Telephone: (225) 242-4501; or Ms. Rebecca Otte, Environmental Planner, Regional Planning Commission, 1340 Poydras, Suite 2100, New Orleans, LA 70112, Telephone: (504) 568-6622.

SUPPLEMENTARY INFORMATION: The FHWA, in cooperation with the Regional Planning Commission for Jefferson, Orleans, Plaquemines, St. Bernard, and St. Tammany Parishes (RPC), and in conjunction with the Louisiana Department of Transportation and Development (LADOTD), will prepare an EIS on alternatives for enhanced commercial interstate access for the Port of South Louisiana and St. John the Baptist Parish between Airline Highway (U.S. 61) and Interstate 10. While port facilities exist along a 54-mile stretch of the Mississippi River, the main focus of port activities and need for port access has been focused in the Reserve area. Reserve has no direct connection to the interstate system. Interchanges with I-10, the nearest interstate highway, lie either eight miles to the east at Highway 3188 or twelve miles to the west at Highway 641. Access to I-10 from the port facilities at Reserve via either of these routes is rather cumbersome, using one of three state highways to access U.S. 61, then traveling either west or east along this congested commercial thoroughfare to the state highways linking to I-10. The routes also pass through residential areas. The proposed EIS will explore not only enhanced I-10 access for the Port of South Louisiana, but also enhanced access for general commercial and non-commercial traffic in the Parish.

The study area limits of the EIS extend from ¼ mile to the east of U.S. 51 on the east to ¼ mile to the west of LA 3213/641 on the west, and from ¼ mile north of I-10 on the north to ¼ mile south of U.S. 61 on the south. It is anticipated that alternatives explored may include new roadways, possible new interchanges with I-10, improvements to existing roadways, as well as Transportation System Management (TSM) options. No transit alternatives are envisioned at this time.

Major arterials that may be traversed, incorporated into, or considered within this study area include: Interstate 10, Interstate 55, U.S. 61, U.S. 51, LA 3213, LA 641, LA 3188, LA 637, LA 54, LA 3179, LA 3223, and LA 3224.

The EIS will be initiated with a scoping process. The scoping process will include a program of public outreach and agency coordination which will be conducted over the next several months in order to elicit input on project purpose and need, potential alternatives, significant and insignificant issues, and collaborative methods for analyzing transportation alternatives and environmental impacts.

As part of scoping, RPC and LADOTD will hold a public scoping meeting and will contact and meet with local, State, and Federal agencies and officials as well as private individuals and organizations concerned with the project. Public notice will be given of the time and place of the public scoping meeting and hearing. The information gained during the scoping process will be widely disseminated and used to guide the development of the EIS. All comments and input received during the scoping will be considered and documented.

Beginning with scoping, continuous and regular public involvement and agency coordination will continue throughout the preparation of the EIS. Letters describing the proposed action and soliciting comments will be sent to appropriate Federal, State, and local agencies, tribes, elected officials and to private organizations and citizens who have previously expressed or are known to have interest in this proposal. Numerous public meetings will be held throughout the term of the project. In addition, a public hearing will be held after the draft EIS is made available for public review. Public notice will be given of the time and place of the meetings and hearing. The draft EIS will be available for public and agency review and comment prior to the public hearing.

To ensure that the full range of issues related to this proposed project are addressed and all significant issues identified, comments and suggestions are invited from all interested parties. Comments or questions concerning this proposed action and the EIS should be directed to the LADOTD at the address provided above.

Issued on May 8, 2009.
Charles W. Bolinger,
Division Administrator, FHWA.

[FR Doc. E9-11371 Filed 5-14-09; 8:45 am]

BILLING CODE P